DEPARTMENT OF COMMERCE

National Oceanic and Atmospheric Administration

[I.D. 071003F]

Pacific Fishery Management Council; Public Meetings

AGENCY: National Marine Fisheries Service (NMFS), National Oceanic and Atmospheric Administration (NOAA), Commerce.

ACTION: Notice of public meetings.

SUMMARY: The Pacific Fishery Management Council's (Council) Ad Hoc Groundfish Habitat Technical Review Committee will hold two working meetings, one by teleconference on August 4, 2003, and one in person on September 3-5, 2003. The meetings are open to the public.

DATES: See SUPPLEMENTARY INFORMATION for meeting dates and times.

ADDRESSES: See SUPPLEMENTARY INFORMATION for listening stations for the August 4th teleconference.

The September 3-5, 2003 meeting will take place at NOAA, NMFS, Northwest Regional Office, 7600 Sand Point Way, NE, Building 9, Seattle, WA 98115, Contact: Ms. Maryann Nickerson, telephone: 206-526-4490.

Council address: Pacific Fishery Management Council, 7700 NE Ambassador Place, Ste. 200, Portland, OR 97220-1384.

FOR FURTHER INFORMATION CONTACT: Dr. Christopher Dahl, NEPA Specialist; telephone: (503) 820-2280.

SUPPLEMENTARY INFORMATION: The meetings are scheduled as follows:

August 4, 2003, 10:30 a.m. until 3:30 p.m

September 3, 2003, 1 p.m. until 6 p.m.

September 4, 2003, 8:30 a.m. until 6 p.m.

September 5, 2003, 8:30 a.m. until 3 p.m.

Listening stations for the August 4, 2003 teleconference will be available at the following addresses:

1. NOAA, NMFS, Northwest Region, Directors Conference Room, 7600 Sand Point Way NE, Bldg. 1, Seattle, WA 98115, Contact: Ms. Maryann Nickerson, telephone: 206-526-4490;

2. Pacific States Marine Fisheries Commission, Main Conference Room, 45 SE 82nd Drive, Ste. 100, Gladstone, OR 97027-2522, Contact: Ms. Teresa Fairchild, telephone: 503-650-5400;

3. Hatfield Marine Science Center, Guin Library, Barry Fisher Conference Room, 2030 SE Marine Science Drive, Newport, OR 97365-5296, Contact: Mr. Bruce McCain, telephone: 541-867-0523;

4. NMFS Southwest Fisheries Science Center, Santa Cruz Laboratory, Room 219 (Small Conference Room), 110 Shaffer Road, Santa Cruz, CA 95060, Contact: Ms. Mary Yoklavich, telephone: 831-420-3940.

The purpose of the Ad Hoc Groundfish Habitat Technical Review Committee meetings is to guide the ongoing assessment of essential fish habitat for Pacific Coast groundfish. On August 4, the committee will review certain elements of the assessment in order to provide technical feedback that may be implemented prior to the workshop in September. Opportunity for comment by non-committee members during the teleconference will be limited.

On September 3-5, the committee will meet in a working meeting in Seattle to consider the assessment in its entirety, including developments in the analytical framework and data consolidation. By holding a public meeting, the committee will provide opportunity for public participation in the assessment process. The committee will only consider technical and scientific questions related to the assessment and will not engage in policy discussions as part of its mission.

Although nonemergency issues not contained in the committee's agendas may come before the committee for discussion, those issues may not be the subject of formal action during these meetings. Committee action will be restricted to those issues specifically listed in this document and to any issues arising after publication of this document requiring emergency action under section 305(c) of the Magnuson-Stevens Fishery Conservation and Management Act, provided the public has been notified of the committee's intent to take final action to address the emergency.

Special Accommodations

The meetings are physically accessible to people with disabilities. Requests for sign language interpretation or other auxiliary aids should be directed to Ms. Maryann Nickerson; 206-526-4490 at least 7 days prior to the meeting date.

Dated: July 14, 2003.
Richard W. Surdi,
Acting Director, Office of Sustainable Fisheries, National Marine Fisheries Service.

[FR Doc. 03-18102 Filed 7-16-03; 8:45 am]

BILLING CODE 3510-22-S